DEPARTMENT OF COMMERCE

National Oceanic and Atmospheric Administration

[I.D. 022602H]

Endangered and Threatened Species; Take of Anadromous Fish

AGENCY: National Marine Fisheries Service (NMFS), National Oceanic and Atmospheric Administration (NOAA), Commerce.

ACTION: Receipt of an application to modify an existing scientific research/enhancement permit (1048) and request for comment.

SUMMARY: Notice is hereby given that NMFS has received an application for permit modifications from the Sonoma County Water Agency (SCWA) in Santa Rosa, CA. The modified permit would affect three Evolutionarily Significant Units (ESUs) of threatened salmonids identified in the SUPPLEMENTARY INFORMATION section. This document serves to notify the public of the availability of the permit modification application for review and comment before a final approval or disapproval is made by NMFS.

DATES: Written comments on the permit application must be received at the appropriate address or fax number (see ADDRESSES) no later than 5 p.m. Pacific Standard Time on April 17, 2002.

ADDRESSES: Written comments on the modification request should be sent to the appropriate office as indicated below. Comments may also be sent via fax to the number indicated for the request. Comments will not be accepted if submitted via e-mail or the internet. The applications and related documents are available for review in the indicated office, by appointment: For permit 1048: Daniel Logan, Protected Species Division, NMFS, 777 Sonoma Avenue, Room 325, Santa Rosa, CA 95404-6528 (telephone, 707-575-6053, fax: 707-578-3435). Documents may also be reviewed by appointment in the Office of Protected Resources, F/PR3, NMFS, 1315 East-West Highway, Silver Spring, MD 20910-3226 (telephone, 301-713-1401).

FOR FURTHER INFORMATION CONTACT: Daniel Logan at 707-575-6053, or e-mail: dan.logan@noaa.gov.

SUPPLEMENTARY INFORMATION:

Authority

Issuance of permits and permit modifications, as required by the Endangered Species Act of 1973 (16 U.S.C. 1531-1543) (ESA), is based on a finding that such permits or modifications are: (1) applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this document should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the following three threatened salmonid ESUs: threatened California Coastal chinook salmon (Oncorhynchus tshawytscha), threatened Central California Coast coho salmon (Oncorhynchus kisutch), and threatened Central California Coast steelhead (Oncorhynchus mykiss).

Modification Request Received

SCWA requests a modification to permit 1048 for takes of adult and juvenile California Coastal chinook associated with population studies, carcass counts, redd surveys, genetic analyses, and habitat quality evaluation. SCWA proposed to develop and implement a monitoring program to identify long-term population trends and stock size estimates that can be used to assist in the restoration of salmonid populations in the Russian River basin. Presently, permit 1048 authorizes intentional takes of adult and juvenile Central California Coast coho salmon and Central California Coast steelhead for projects within the Russian River basin. This requested modification would add intentional takes of adult and juvenile California Coastal chinook salmon to the SCWA permit.

Dated: March 11, 2002.
Phil Williams,
Acting Chief, Endangered Species Division, Office of Protected Resources, National Marine Fisheries Service.

[FR Doc. 02-6312 Filed 3-15-02; 8:45 am]

BILLING CODE 3510-22-S